DEPARTMENT OF COMMERCE

Foreign-Trade Zones Board

[Order No. 2174]

Proposed Foreign-Trade Zone Not Approved—Iberia Parish, Louisiana

Pursuant to its authority under the Foreign-Trade Zones Act of June 18, 1934, as amended (19 U.S.C. 81a-81u), the Foreign-Trade Zones Board (the Board) adopts the following Order:

Whereas, the Foreign-Trade Zones (FTZ) Act provides for “. . .the establishment. . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR 400.2(c)) as an option for the establishment or reorganization of zones;

Whereas, the Port of Iberia District (the applicant) made application to the Board (B-6-2024, docketed February 7, 2024) requesting the establishment of a foreign-trade zone under the ASF with a service area of the portions of Iberia Parish which lie within the boundaries of the Port of Iberia District and a proposed subzone, adjacent to the Morgan City Customs and Border Protection port of entry;

Whereas, notice inviting public comment was given in the Federal Register (89 FR 10031, February 13, 2024; 89 FR 102856, December 18, 2024) and the application was processed pursuant to the FTZ Act and the Board's regulations; and,

Whereas, the Board adopts the findings and recommendations of the examiner's report, and finds that the requirements of the FTZ Act and the Board's regulations have not been satisfied;

Therefore, the Board hereby does not approve the application of the Port of Iberia District.

Dated: April 7, 2025.
Dawn Shackleford,
Executive Director of Trade Agreements Policy & Negotiations, Alternate Chairman, Foreign-Trade Zones Board.

[FR Doc. 2025-06193 Filed 4-10-25; 8:45 am]

BILLING CODE 3510-DS-P